DEPARTMENT OF JUSTICE

Notice of Lodging of Consent Decree

In accordance with Departmental Policy, 28 CFR 50.7, notice is hereby given that a proposed Consent Decree in United States of America v. Brent Nicholson and Mary K. Nicholson, Case No. C01-809RBL, was lodged with the United States District Court for the Western District of Washington on September 28, 2011.

This proposed Consent Decree concerns a complaint filed by the United States against Brent Nicholson and Mary K. Nicholson, pursuant to Section 309 of the Clean Water Act, 33 U.S.C. 1319, to obtain injunctive relief from and impose civil penalties against the Defendants for violating the Clean Water Act by discharging pollutants without a permit into waters of the United States. The proposed Consent Decree resolves these allegations by requiring the Defendants to pay a civil penalty and perform mitigation. The Consent Decree also provides for a shore defense structure to remain in place under certain conditions, including that the Defendants enter into a separate agreement with the Lummi Nation.

The Department of Justice will accept written comments relating to this proposed Consent Decree for thirty (30) days from the date of publication of this Notice. Please address comments to Brian C. Kipnis, Assistant United States Attorney, 5200 United States Courthouse, 700 Stewart Street, Seattle, Washington, 98101-1271, and refer to United States of America v. Brent Nicholson and Mary K. Nicholson, Case No. C01-809RBL.

The proposed Consent Decree may be examined at the Clerk's Office, United States District Court for the Western District of Washington, 5200 United States Courthouse, 700 Stewart Street, Seattle, Washington, 98101-1271. In addition, the proposed Consent Decree may be viewed at http://www.usdoj.gov/enrd/Consent_Decrees.html.

Cherie L. Rogers,
Assistant Section Chief, Environmental Defense Section, Environment & Natural Resources Division.

[FR Doc. 2011-26313 Filed 10-11-11; 8:45 am]

BILLING CODE P